FEDERAL MARITIME COMMISSION

Ocean Transportation Intermediary License Reissuances

The Commission gives notice that the following Ocean Transportation Intermediary licenses have been reissued pursuant to section 19 of the Shipping Act of 1984 (46 U.S.C. 40101).

License No.: 019710N.

Name: Menuet Maritime Services, Inc. dba U-Box Worldwide.

Address: 14027 Memorial Drive, Houston, TX 77079.

Date Reissued: August 29, 2014.

License No.: 022930NF.

Name: Sea Horse Express Inc.

Address: 69 Le Fante Way, Bayonne, NJ 07002.

Date Reissued: September 5, 2014.

License No.: 022985N.

Name: Ruky International Shipping Line LLC.

Address: 100 Menlo Park Drive, Suite 204, Edison, NJ 08837.

Date Reissued: September 12, 2014.

Sandra L. Kusumoto.
Director, Bureau of Certification and Licensing.

Pursuant to the Commission's direct rule (79 FR 56522), beginning October 20, 2014, these notices will no longer be posted in the Federal Register. After October 20, 2014, this information will be available on the Commission's Web site at http://www.fmc.gov, see OTI Licensing Updates.

[FR Doc. 2014-24578 Filed 10-15-14; 8:45 am]

BILLING CODE 6730-01-P